ENVIRONMENTAL PROTECTION AGENCY

40 CFR Part 52

[EPA-R06-OAR-2015-0647; FRL-9941-21-Region 6]

Approval and Promulgation of Implementation Plans; Arkansas; Crittenden County Base Year Emission Inventory

AGENCY: Environmental Protection Agency (EPA).

ACTION: Direct final rule.

SUMMARY: The Environmental Protection Agency (EPA) is approving a revision to the Arkansas State Implementation Plan (SIP) submitted to meet the Clean Air Act (CAA) emissions inventory (EI) requirement for the Crittenden County ozone nonattainment area. EPA is approving the SIP revision because it satisfies the CAA EI requirement for Crittenden County under the 2008 8-hour ozone National Ambient Air Quality Standards (NAAQS). The inventory includes emissions data for Nitrogen Oxides (NOX) and Volatile Organic Compounds (VOCs). EPA is approving the revisions pursuant to section 110 and part D of the CAA and EPA's regulations.

DATES: This rule is effective on March 14, 2016 without further notice, unless the EPA receives relevant adverse comment by March 14, 2016. If the EPA receives such comment, the EPA will publish a timely withdrawal in the Federal Register informing the public that this rule will not take effect.

ADDRESSES: Submit your comments, identified by Docket No. EPA-R06-OAR-2015-0647, at http://www.regulations.gov or via email to Schwartz.Colin@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Mr. Colin Schwartz, 214-665-7262, Schwartz.Colin@epa.gov. For the full EPA public comment policy, information about CBI or multimedia submissions, and general guidance on making effective comments, please visit http://www2.epa.gov/dockets/commenting-epa-dockets.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Mr. Colin Schwartz, 214-665-7262, Schwartz.Colin@epa.gov. To inspect the hard copy materials, please schedule an appointment with Mr. Schwartz or Mr. Bill Deese at 214-665-7253.

SUPPLEMENTARY INFORMATION: Throughout this document “we,” “us,” and “our” means the EPA.

I. Background

A. The 2008 Ozone NAAQS and Emissions Inventory Requirement

On March 12, 2008, the EPA revised the eight-hour ozone NAAQS from 0.08 parts per million (ppm) to 0.075 ppm. (73 FR 16436, March 27, 2008). The EPA designated Crittenden County as a nonattainment area for the 2008 ozone NAAQS (77 FR 30088, May 21, 2012).¹

¹ On October 1, 2015, the EPA strengthened the ozone standard to 0.070 ppm (80 FR 65292, October 26, 2015). The EPA has not made designations under this new standard and the emission inventory under evaluation in this rulemaking does not address that standard.

CAA sections 172(c)(3) and 182(a)(1) require states to develop and submit as a SIP revision an emissions inventory for all areas designated as nonattainment for the ozone NAAQS. 42 U.S.C. 172(c) and 182(a). An emissions inventory is an estimation of actual emissions of air pollutants in an area. Ground-level ozone, O3, is a gas that is formed by the reaction of VOCs and NOX in the atmosphere in the presence of sunlight. These precursor emissions are emitted by many types of pollution sources, including power plants and industrial emissions sources, on-road and non-road motor vehicles and engines, and smaller sources, collectively referred to as area sources. The EIs provide data for a variety of air quality planning tasks including establishing baseline emission levels, calculating federally required emission reduction targets, emission inputs into air quality simulation models, and tracking emissions over time. The total EI of VOC and NOX for an area are summarized from the estimates developed for four general categories of emissions sources: Point, area, mobile, and biogenic. The EPA's 2008 ozone standard SIP requirements rule recommends that states use 2011 as a base year to address EI requirements (80 FR 12264, 34190, March 6, 2015).

B. Arkansas' Submittal

On August 28, 2015, Arkansas submitted to the EPA the SIP revision addressing the emissions inventory requirement for Crittenden County under the 2008 ozone NAAQS. The inventory includes estimates of 2011 NOX and VOC emissions in tons per year. The 2011 Base Year Inventory is the starting point for calculating the reductions necessary to meet the requirements of the CAA. Sections 172 (c)(3) and 182(b)(1) of the CAA require that nonattainment plan provisions include an inventory of actual emissions from all sources of relevant pollutants in the nonattainment area. The inventory includes all area, point, non-road mobile, and on-road mobile source emissions in the Crittenden County ozone nonattainment area. The inventory also includes a description of the methods used to estimate emissions. A copy of the submittal is available in the electronic docket for this action.

C. What criteria must be met for the EPA to approve this SIP revision?

Section 182(a)(1) of the CAA requires states with nonattainment areas to submit a comprehensive and accurate inventory of ozone precursor emissions from all sources within two years of the effective date of designation, which was July 20, 2012. Also, Section 172(c)(3) requires that such an inventory shall include a comprehensive accurate, current inventory of actual emissions from all sources of the relevant pollutant or pollutants in such area, including such periodic revisions as the Administrator may determine necessary to assure that the requirements of this part are met.

II. The EPA's Evaluation

EPA reviewed the revision for consistency with the requirements of EPA regulations. A summary of EPA's analysis is provided below. For a full discussion of our evaluation, please see our Technical Support Document (TSD).

Sections 172(c)(3) and 182(a)(1) of the CAA require an inventory of actual emissions from all sources of relevant pollutants in the nonattainment area. The 2011 base year emission inventory data include all point, area, and non-road and on-road mobile sources in Crittenden County. Point source emissions were entered through the State and Local Emissions Inventory System (SLEIS) and area sources were developed in accordance with the federal Air Emissions Reporting Requirements (AERR) rule. Non-road mobile sources utilized the National Mobile Inventory Model (NMIM) while the on-road sources used the Motor Vehicle Emissions Simulator (MOVES2010b). The EPA has determined that the inventory was developed in accordance with CAA guidelines and that the revised 2011 base year emission inventory is approvable. The submittal meets the goal of reaching attainment by reducing O3 forming precursors. Table 1 lists the emissions inventory for the Crittenden County area. For more detail on how the emissions inventories were estimated and evaluated, see the TSD.

Table 1—Base Year Emissions Inventory, 2011 Data
Category | Ozone season daily NOX | Annual NOX | Ozone season daily VOC | Annual VOC | Ozone season daily CO | Annual CO
Units | Tons/day | Tons/year | Tons/day | Tons/year | Tons/day | Tons/year
Point | 0.0017 | .063 | .051 | 186.84 | 0.004 | 1.58
Area | 8.70 | 3,165.17 | 24.90 | 8,868.94 | 20.32 | 7,375.56
Non-road Mobile | 2.11 | 582.63 | 3.66 | 881.35 | 13.78 | 3,476.63
On-road Mobile | 6.80 | 2,542 | 2.42 | 845 | 23.13 | 9,051
Total | 17.61 | 6,290.43 | 31.49 | 10,782.13 | 57.234 | 19,904.77

III. Final Action

We are approving revisions to the Arkansas SIP that pertain to the 2008 ozone SIP emissions inventory for Crittenden County, as are listed in Table 1.

The EPA is publishing this rule without prior proposal because we view this as a non-controversial amendment and anticipate no adverse comments. However, in the proposed rules section of this Federal Register publication, we are publishing a separate document that will serve as the proposal to approve the SIP revision if relevant adverse comments are received. This rule will be effective on March 14, 2016 without further notice unless we receive relevant adverse comment by February 16, 2016. If we receive relevant adverse comments, we will publish a timely withdrawal in the Federal Register informing the public that the rule will not take effect. We will address all public comments in a subsequent final rule based on the proposed rule. We will not institute a second comment period on this action. Any parties interested in commenting must do so now. Please note that if we receive relevant adverse comment on an amendment, paragraph, or section of this rule and if that provision may be severed from the remainder of the rule, we may adopt as final those provisions of the rule that are not the subject of an adverse comment.

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 14, 2016. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

Samuel Coleman was designated the Acting Regional Administrator on December 30, 2015 through the order of succession outlined in Regional Order R6-1110.1, a copy of which is included in the docket for this action.

List of Subjects in 40 CFR Part 52

Environmental protection, Air pollution control, Incorporation by reference, Ozone, Reporting and recordkeeping requirements, Volatile Organic Compounds.

Dated: December 30, 2015.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart E—Arkansas

2. In § 52.170(e), the third table titled “EPA-Approved Nonregulatory Provisions and Quasi-Regulatory Measures” is amended by adding an entry for “Crittenden County Base Year Emission Inventory for the 2008 Ozone Standard” to the end of the table.

The addition reads as follows:

§ 52.170 Identification of plan.

* * * * *

(e) * * *

EPA-Approved Nonregulatory Provisions and Quasi-Regulatory Measures in the Arkansas SIP
Name of SIP provision | Applicable geographic or nonattainment area | State submittal/ effective date | EPA approval date | Explanation
* * * * * * *
Crittenden County Base Year Emission Inventory for the 2008 Ozone Standard | Crittenden County | 8/28/2015 | 1/13/2016 [Insert Federal Register citation] |

[FR Doc. 2016-00559 Filed 1-13-16; 8:45 am]

BILLING CODE 6560-50-P